DEPARTMENT OF TRANSPORTATION

Pipeline and Hazardous Materials Safety Administration

[Docket No. PHMSA-2010-0245; Notice No. 10-6]

Notice: Elimination of Expiration Dates for Classification Approvals

AGENCY: Pipeline and Hazardous Materials Safety Administration (PHMSA), DOT.

ACTION: Notice.

SUMMARY: In 2005, PHMSA initiated a policy imposing a 5-year expiration date on firework classification approvals to ensure that background information supporting the approval is current and applicable, information is up-to-date and complete, obsolete approvals are eliminated from the PHMSA database, and approvals are amended with new requirements and/or methods as necessary. In 2009, this policy was extended to include all types of classification approvals, including explosives, oxidizing substances, organic peroxide materials and self-reactive substances. PHMSA is changing its policy and eliminating expiration dates for classification approvals because the policy has had unanticipated effects since its implementation. For instance, explosives assigned EX numbers, and self-reactive materials and organic peroxide materials, assigned CA numbers, have a shelf life far beyond the 5-year expiration date. Consequently, a product shipped in accordance with a classification approval with a 5-year expiration date becomes ineligible for domestic transport on the date the approval expires despite the product continuing to be safe for transport.

Existing classification approvals with expiration dates will be reissued by PHMSA in accordance with the change of policy. While expiration dates for classification approvals will be eliminated, PHMSA retains the authority to issue approvals with expiration dates on a case-by-case basis.

DATES: Effective Date: The effective date of these amendments is September 7, 2010.

FOR FURTHER INFORMATION CONTACT: Mr. Ryan Paquet, Technical Advisor, Office of Hazardous Materials Special Permits and Approvals, (202) 366-4512, Pipeline and Hazardous Materials Safety Administration, 1200 New Jersey Avenue, SE., Washington, DC 20590.

Issued in Washington, DC on August 31, 2010 under authority delegated in 49 CFR part 1.
Magdy El-Sibaie,
Associate Administrator for Hazardous Materials Safety, Pipeline and Hazardous Materials Safety Administration.

[FR Doc. 2010-22138 Filed 9-3-10; 8:45 am]

BILLING CODE 4910-60-P